DEPARTMENT OF ENERGY

[FE Docket Nos. 01-84-NG, 01-76-NG, 01-83-NG, 01-88-NG, 93-34-NG, 01-73-NG, 01-85-NG, 01-90-NG, 01-86-NG, 99-106-NG, 00-71-NG, 01-87-NG, 01-86-NG, 00-71-NG, and 01-89-LNG]

Office of Fossil Energy; Phibro Inc., Enron Canada Corp., Puget Sound Energy, Inc., Suncor Energy Inc., Wisconsin Public Service Corporation (Successor of Wisconsin Fuel & Light Company), Crestar Energy Marketing Corporation, Jonan Energy LTD. (Formerly Jonan Gas Marketing, Inc.), Energyusa-TPC Corp., The Consumer's Gas Company LTD., Sunoco Inc., The Consumer's Gas Company LTD., Boston Gas Company d/b/a KeySpan Energy Delivery New England; Orders Granting, Amending, Transferring and Vacating Authority to Import and Export Natural Gas, Including Liquefied Natural Gas

AGENCY: Office of Fossil Energy, DOE.

ACTION: Notice of Orders.

SUMMARY: The Office of Fossil Energy (FE) of the Department of Energy gives notice that during December 2001, it issued Orders granting, amending, transferring and vacating authority to import and export natural gas, including liquefied natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, S.W., Washington, D.C. 20585, (202) 586-9478. The Docket Room is open between the hours of 8:00 a.m. and 4:30 p.m., Monday through Friday, except Federal holidays.

Issued in Washington, DC, on January 7, 2002.
Yvonne Caudillo,
Acting Manager, Natural Gas Regulation, Office of Natural Gas & Petroleum Import & Export Activities, Office of Fossil Energy.

Appendix

Orders Granting, Amending, Transferring and Vacating Import/Export Authorizations
[DOE/FE Authority]
Order No. | Date issued | Importer/exporter FE docket No. | Import volume | Export volume | Comments
1744 | 12-5-01 | Phibro Inc. 01-84-NG | 400 Bcf | 400 Bcf | Import and export natural gas, including LNG from and to Canada and Mexico, beginning on January 1, 2002, and extending through December 31, 2003.
1745 | 12-5-01 | Enron Canada Corp. 01-76-NG | 1,800 Bcf |  | Import and export a combined total of natural gas from and to Canada, beginning on January 1, 2002, and extending through December 31, 2003.
1746 | 12-5-01 | Puget Sound Energy, Inc. 01-83-NG | 50 Bcf |  | Import natural gas from Canada, beginning on December 6, 2001, and extending through December 5, 2003.
1747 | 12-11-01 | Suncor Energy Inc. 01-88-NG | 127.66 Bcf |  | Import natural gas from Canada, beginning on January 1, 2002, and extending through December 31, 2003.
856-A | 12-11-01 | Wisconsin Public Service Corporation (Successor of Wisconsin Fuel & Light Company) 93-94-NG |  |  | Transfer of long-term authority.
1736 | 12-12-01 | Crestar Energy Marketing Corporation 01-73-NG |  |  | Errata Notice: Correction of the term of authority to July 12, 2001, and extending through July 11, 2003.
1748 | 12-13-01 | Jonan Energy Ltd. (Formerly Jonan Gas Marketing, Inc.) 01-85-NG | 100 Bcf |  | Import and export a combined total of natural gas from and to Canada, beginning on November 1, 2001, and extending through October 31, 2003.
1749 | 12-17-01 | EnergyUSA-TPC Corp. 01-90-NG | 73 Bcf |  | Import and export a combined total of natural gas from and to Canada, beginning on January 1, 2002, and extending through December 31, 2003.
1750 | 12-17-01 | The Consumer's Gas Company Ltd. 01-86-NG, 99-106-NG, 00-71-NG | 200 Bcf |  | Import and export a combined total of natural gas from and to Canada, beginning on January 1, 2002, and extending through December 31, 2002.
1751 | 12-19-01 | Sunoco Inc. 01-87-NG | 200 Bcf | 400 Bcf | Import and export natural gas from and to Canada, beginning on February 2, 2002, and extending through January 31, 2004.
1637-A | 12-26-01 | The Consumer's Gas Company Ltd. 00-71-NG, 01-86-NG |  |  | Order vacating blanket import authority.
1752 | 12-27-01 | Boston Gas Company d/b/a/KeySpan Energy Delivery New England 01-89-LNG | 600,000 Mcf |  | Import of LNG from Canada, over a two-year term beginning on the date of first delivery.

[FR Doc. 02-857 Filed 1-11-02; 8:45 am]

BILLING CODE 6450-01-P